DEPARTMENT OF ENERGY

DOE/NSF Nuclear Science Advisory Committee

AGENCY: Office of Science, Department of Energy.

ACTION: Notice of Renewal.

SUMMARY: Pursuant to Section 14(a)(2)(A) of the Federal Advisory Committee Act, (Pub. L. 92-463), and in accordance with Title 41 of the Code of Federal Regulations, Section 102-3.65, and following consultation with the Committee Management Secretariat, General Services Administration, notice is hereby given that the DOE/NSF Nuclear Science Advisory Committee (NSAC) will be renewed for a two-year period.

The Committee will provide advice and recommendations to the Director, Office of Science (DOE), and the Assistant Director, Directorate for Mathematical and Physical Sciences (NSF), on scientific priorities within the field of basic nuclear science research.

Additionally, the renewal of the DOE/NSF Nuclear Science Advisory Committee has been determined to be essential to conduct business of the Department of Energy and the National Science Foundation, and to be in the public interest in connection with the performance of duties imposed upon the Department of Energy and National Science Foundation, by law and agreement. The Committee will continue to operate in accordance with the provisions of the Federal Advisory Committee Act, adhering to the rules and regulations in implementation of that Act.

FOR FURTHER INFORMATION CONTACT: Dr. Timothy Hallman at (301) 903-3613.

Issued in Washington, DC on September 30, 2013.
Carol A. Matthews,
Committee Management Officer.

[FR Doc. 2013-24608 Filed 10-21-13; 8:45 am]

BILLING CODE 6450-01-P